COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were previously furnished by nonprofit agencies employing persons who are blind or have other severe disabilities.

DATES: Comments must be received on or before June 18, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): 5340-00-NSH-0008—Loop, Kevlar

5340-00-NSH-0009—Link, Quick Release

Mandatory Source(s) of Supply: Community Option Resource Enterprises, Inc. (COR Enterprises), Billings, MT

Contracting Activity: NAVSUP Weapon Systems Support

Services

Service Type: Custodial Service

Mandatory for: GSA, Parking Lot: 12th & C Streets SW., Washington, DC

Mandatory Source(s) of Supply: Anchor Mental Health Association, Washington, DC

Contracting Activity: Public Buildings Service, WPHBD—West Repair & Alterations Contracts Branch

Service Type: Janitorial/Custodial Service

Mandatory for: Federal Supply Service Depot: 4100 West 76th Street, Chicago, IL

Mandatory Source(s) of Supply: Lester and Rosalie ANIXTER CENTER, Chicago, IL

Contracting Activity: General Services Administration, FPDS Agency Coordinator

Service Type: Switchboard Operation Service

Mandatory for: Eglin Air Force Base: East of Memorial Trail (excluding the airfield), Eglin, FL

Mandatory Source(s) of Supply: Lakeview Center, Inc., Pensacola, FL

Contracting Activity: Dept of the Air Force, FA2823 AFTC PZIO

Amy B. Jensen,
Director, Business Operations.

[FR Doc. 2017-10210 Filed 5-18-17; 8:45 am]

BILLING CODE 6353-01-P